DEPARTMENT OF LABOR

Employment and Training Administration

Notice of Availability of Funds and Solicitation for Grant Applications (SGA) for Local Young Offender Planning Grants, State/Local Juvenile Offender Implementation Grants, and an Intermediary Juvenile Reentry Grant

AGENCY: Employment and Training Administration, U.S. Department of Labor.

Announcement Type: Notice of Solicitation for Grant Applications.

Funding Opportunity Number: SGA/DFA PY 08-09.

Catalog Federal Assistance Number: 17.261.

SUMMARY: The Employment and Training Administration announces the availability of $17.3 million for Young Offender Grants. The grants will be awarded through a competitive process for three categories of projects—(1) Young Offender Planning Grants to be awarded to local governments; (2) Juvenile Offender Implementation Grants to be awarded to state/local government partnerships; and (3) a Juvenile Offender Reentry Grant to be awarded to an organization with experience conducting demonstrations in multiple cities. The goal of the planning grants is to allow selected localities to develop comprehensive blueprints for serving both juvenile and young adult offenders returning from correctional facilities. To qualify for these planning awards, applicants will need to provide one-to-one leveraged resources from a local or national foundation, local or state government, other federal funds, or other source. The goal of the implementation grants is to allow state juvenile justice departments and local juvenile justice agencies to join together to put into place a comprehensive strategy for serving all youth in the local area returning home from juvenile correctional or detention facilities. The goal of the intermediary reentry grant is to allow an organization to design and implement a model program for serving returning juvenile offenders in four cities that may be selected competitively after grant award.

This solicitation provides background information and describes the application submission requirements, outlines the process that eligible entities must use to apply for funds covered by this solicitation, and outlines the evaluation criteria used as a basis for selecting the grantees.

DATES: Key Dates: The closing date for receipt of applications under this announcement is December 18, 2008. Application and submission information is explained in detail in Part IV of this SGA.

ADDRESSES: Applications that do not meet the conditions set forth in this notice will not be considered. No exceptions to the submission requirements set forth in this notice will be granted. For detailed guidance, please refer to Section IV.C.

SUPPLEMENTARY INFORMATION: This solicitation consists of eight parts:

Part I provides a description of this funding opportunity.

Part II describes the size and nature of the anticipated awards.

Part III describes eligibility information.

Part IV provides information on the application and submission process.

Part V describes the criteria against which applications will be reviewed and explains the Proposal review process.

Part VI provides award administration information.

Part VII contains DOL agency contact information.

Part VIII lists additional resources of interest to applicants and other information.

I. Overall Funding Opportunity Description

The Employment and Training Administration announces the availability of $17.3 million for Young Offender Grants. The grants will be awarded through a competitive process for three categories of projects—(1) approximately 10 Young Offender Planning Grants of approximately $300,000 each to be awarded to local governments; (2) approximately three Juvenile Offender Implementation Grants of approximately $3,115,260 each to be awarded to state/local government partnerships; and (3) one Intermediary Reentry Grant of approximately $5 million to be awarded to an organization with experience conducting demonstrations in multiple cities.

Each year, Juvenile Courts in the United States handle roughly 1.6 million delinquency cases and an estimated 144,000 youth are placed in juvenile correctional facilities. Youth in the juvenile justice system have high probabilities of returning to crime. For example, the State of Virginia reports that 79 percent of youth released from state correctional facilities and 60 percent of youth placed on probation in the state are arrested for a new crime within three years.

Juvenile offenders do not return evenly to communities across the United States, but rather return disproportionately to high-crime, high-poverty areas. The social support system in such communities is typically overwhelmed by the volume of returning offenders. The purpose of all three categories of grants being awarded under this solicitation is to provide selected state and local governments and an intermediary organization the opportunity to develop comprehensive strategies for serving all young offenders returning to a city or county. The Department recognizes that the funds available under the state/local implementation grants and the intermediary reentry grant may not be sufficient to serve all youth returning to the local area from juvenile correctional facilities, but the funds will be enough to serve a significant number of returning youth and for the state and local area to put into place strategies that could eventually serve all returning youth.

The goal of the planning grants is to allow selected localities to develop comprehensive blueprints for serving all juvenile and young adult offenders returning from correctional facilities. The Department's intent in funding these planning grants is that communities will then use resources outside of these grants to fully fund the plans that they develop. Applicants will need to show in their proposals and grantees will need to provide in the plans that they eventually develop how they intend to use state government, local government, and foundation resources to implement their plans.

The goal of the implementation grants is to allow state juvenile justice departments and local juvenile justice agencies to join together to put into place a comprehensive strategy for serving all youth in the local area returning home from juvenile correctional or detention facilities. These grants are designed to be administered by a partnership of state juvenile justice departments and local juvenile justice agencies. Either of the state juvenile justice department or local juvenile justice agency partners is eligible to apply for a grant and be part of the partnership under this Notice. Each state is limited to submitting only one application, and this application is limited to having juvenile offenders from only one county in the state as its focus. We are requiring a partnership between state and local juvenile justice agencies in these grants because reentry programs for juvenile offenders need both pre-release and post-release components. Further, in many states, the majority of youth in juvenile correctional facilities come from one city, and improved reentry outcomes for youth from that city benefit both the state and the locality.

The goal of the intermediary reentry grant is to allow an organization to design and implement a model program for serving returning juvenile offenders in four cities across the country. These cities may be selected after award through a competition open to faith and community-based organizations. The Department is allowing State/Local Implementation Grantees and Intermediary Reentry Grantees to use both time and part of their grant resources to go through a planning process prior to the implementation of their projects.

The Department's overarching reentry strategy, developed through the Ready-4-Work, Prisoner Reentry Initiative, and various Youthful Offender demonstrations, includes three main features: (1) The use of faith-based and community organizations in partnership with the juvenile or adult criminal justice system; (2) an emphasis on providing volunteer mentors for returning offenders; and (3) a focus on education for younger juvenile offenders and employment for older juvenile offenders and adult offenders. The Department expects that all three categories of grants being funded under this solicitation will develop programs based on this overarching strategy.

The Department also expects that all three categories will form Community Reentry Teams to design these components. These Community Reentry Teams will include at a minimum representatives from state and local juvenile justice agencies, the local workforce system, the local public school system, the local foster youth system, faith-based and community organizations, local corporations and businesses, and local foundations. Since Planning Grantees will also be developing plans for serving young adult offenders, their Community Reentry Teams should also include representatives for state and local criminal justice agencies.

The Ready-4-Work demonstration placed faith-based and community organization at the center of social service delivery to returning offenders. The Department of Labor funded 11 sites serving returning adult offenders, while the Department of Justice funded seven sites serving returning juvenile offenders. For more information on the Ready-4-Work demonstration, see the Public/Private Ventures report When the Gates Open: Ready4Work-A National Response to the Prisoner Reentry Crisis at http://www.ppv.org/ppv/publications/assets/189_publication.pdf. Also see the Department of Labor publication Ready4Reentry: A Prisoner Reentry Toolkit for Faith-Based and Community Organizations available at http://www.dol.gov/cfbci/PRItoolkit.pdf.

The Prisoner Reentry Initiative includes both a pre-release component funded by the Department of Justice and a post-release component funded by the Department of Labor. The initial set of 30 Prisoner Reentry Initiative grants are now in their third-year of operation, while a second set of 23 grants are now in their first year of operation. For more information on this project, see the Coffey Communications interim report Evaluation of the Prisoner Reentry Initiative at http://wdr.doleta.gov/research/FullText_Documents/PRI%2DEval%20Interim%20Report%20%2D%206%2D11%2D08%2Epdf.

The Department sees faith-based and community organizations as important partners because they possess the compassion, commitment and expertise needed to help young offenders get back on track in their lives. These organizations also posses an intimate knowledge of the community, its resources, and potential program participants. Faith-based and community organizations can provide assistance to young offenders in a variety of ways, including mentoring, case management, family support services, and supportive services necessary to help younger juvenile offenders return to and succeed in school and to help older juvenile offenders and young adult offenders find and retain employment.

The Department also expects that projects in all three categories of grants will emphasize a Shared Youth Vision approach in which multiple state and local agencies work collaboratively across funding streams to best serve young people in their jurisdictions. Please go to the Employment and Training Administration's Web site for more information on the Shared Youth Vision at http://www.doleta.gov/ryf/WhiteHouseReport/VMO.cfm.

The Department believes that a wide variety of programming is necessary to meet the diverse needs of young offenders, and that the projects carried out with the state/local implementation grants and the intermediary reentry grant and the strategies developed with the planning grants will include all the components listed below. The state/local implementation grantees and the intermediary reentry grantee will actually put into place these components, while the planning grantees will develop strategies for implementing these components.

#1. Employment Strategies. For the state/local implementation grants and the intermediary reentry grant, the employment component should be aimed at juvenile offenders ages 18 and above. For the planning grants, the employment component will be the main strategy for the young adult portion of the plan and also a key component for youth ages 18 and above in the juvenile portion of the plan. The employment component can include strategies such as on-the-job training; vocational training; subsidized jobs in both the public and private sectors; participation in conservation and service corps programs; participation in YouthBuild programs; job readiness training; job placement; internships for juvenile offenders who return to school; efforts to expose students to careers and to coordinate with industry-based youth organizations; and efforts to expand the career awareness of juvenile offenders and to make them aware of the educational requirements of various careers. See the Web sites of Skills USA at http://www.skillsusa.org and Health Occupations Students of America at http://www.hosa.org/natorg.html for examples of programs that coordinate with industries in teaching youth about careers.

Designing this component will require coordinating with the local workforce system to provide access both to the corporations represented on the Workforce Investment Board and the service providers funded by the local workforce system. As part of the planning process after grant award, local areas also will need to do a scan of existing DOL-funded initiatives in the community, including the WIA formula youth program, WIRED, Beneficiary Choice projects, community-based job training projects, youth offender projects, and high-growth job training grants, to determine potential linkages, if present.

#2. Case Management. This component will provide a team of full-time advocates to serve young offenders returning to the city or county. The Department sees these case managers or advocates as assisting parole officers in serving returning young offenders and in linking these offenders to available social services. The Department also sees these case managers or advocates getting to know the parents of juvenile offenders and making home visits to the youth. The Department expects that case management will start at some point prior to release to allow young offenders to become familiar with their case managers prior to release. This component may also include having a separate team of case managers to work with youth at correctional facilities to prepare the youth for their release. See the Ready-4-Work and Prisoner Reentry Initiative publications referenced above for discussions of implementing case management components for returning offenders.

#3. Educational Strategies. This component will be primarily aimed at juvenile offenders under the age of 18, but will also include strategies aimed at serving juvenile offenders ages 18 and above. Juvenile offenders returning from out-of-home placements face great difficulties when they re-enroll in school, and the Department expects that grantees in all three categories will coordinate with local school districts in developing this component. One study of a large urban school district found that within a year of re-enrolling in high school, nearly two-thirds of first-time ninth graders and over three-fourths of ninth grade repeaters who were incarcerated and then returned to school withdraw or drop out. The study found that only 12 percent of first-time ninth graders and 15 percent of ninth grade repeaters completed their high school education within four years. Educational activities can be operated under this grant both during pre-release and post-release. The Department sees this educational component as offering a variety of educational pathways to serve the diverse needs of youth. The Department expects that this educational component will include the following elements:

• Reading and math remediation;

• Assisting young offenders compile the credits they have received in various schools and correctional facilities they have attended;

• Credit retrieval opportunities to allow young juvenile offenders to catch up with their age cohort in high school credits;

• Transition programs such that juvenile offenders returning from out-of-home placements do not re-enter classrooms in the middle of a semester;

• Tutoring in high school classes for returning offenders; and

• Having case managers coordinate with teachers and parole officers to help ensure the success of juvenile offenders when they return to school.

#4. Mentoring. This component will be aimed at providing adult mentors for returning young offenders. For the State/Local Implementation Grants and the Intermediary Reentry Grant, the Department requires that a faith-based or community organization experienced in providing social services to youth or in operating mentoring programs have the lead in this component of the program. This organization may be selected competitively by the grantee after award. Mentoring can be provided through volunteers recruited through a variety of ways, and may include one-on-one mentoring, group mentoring, and service-based mentoring. The Department recognizes that it may not be possible to provide a mentor for every youth returning from a juvenile correctional facility, but grantees should develop strategies to provide a high proportion of returning youth offenders with mentors, with the goal of eventually serving all such youth.

#5. Restorative Justice Projects. The Department expects that each grantee will develop restorative justice projects that allow youth offenders to participate in community service projects to give something positive back to their neighborhood to make up for their delinquent offenses. Plans should provide for different types of projects appropriate for the different age groups of offenders. As examples, age-appropriate work for participants ages 18 and above could include construction projects such as helping build housing for poor families or helping build community centers, while age-appropriate work for younger participants youth could include conservation projects such as tree planting and clearing trails in parks. The Department expects that this component will be developed in conjunction with local conservation and service corps programs, volunteer organizations, and state and local parks.

#6. Community-Wide Efforts to Reduce Crime and Violence. The Department expects that grantees will include in each of the components listed above connections with neighborhood leaders and institutions which serve youth as part of their missions, such as faith-based and community groups with youth programs, Settlement Houses, Boys and Girls Clubs, Girls Inc, YMCAs, and YWCAs. The Department expects that the overall strategy developed by all three categories of grantees will include faith-based and community organizations and social service organizations in neighborhoods with large numbers of juvenile offenders joining together to form a community-wide net to serve juvenile offenders and to prevent youth violence, as was done in Boston's 10 Point Coalition (http://www.jsonline.com/story/index.aspx?id=212652).

II. Award Information

A. Award Amount

Planning Grants: The Department expects to award 10 planning grants of approximately $300,000 each.

State/Local Implementation Grants: The Department expects to award three state/local implementation grants of approximately $3,115,260 each. These grants may receive additional years of funding depending on the availability of such funds and demonstrated performance.

Intermediary Reentry Grant: The Department expects to award one Intermediary Reentry Grant of approximately $5 million. This grant may receive additional years of funding depending on the availability of such funds and demonstrated performance.

B. Period of Performance

Planning Grants: Planning Grants will be awarded for a 12-month period of performance.

State/Local Implementation Grants and Intermediary Reentry Grant: These grants will be funded for an 18-month period of performance that includes up to six months of planning and 12 full months of operation. In the Budget Narrative, applicants must provide separate budgets for planning and operations. Regardless of the length of the planning period, applicants must budget for a full 12 months of operation. Grantees should be judicious in their use of funds during the planning period and careful to use them specifically for planning components associated with this grant.

III. Eligibility Information and Other Grant Specifications

A. Eligible Applicants

Planning Grants: City and county governments are eligible to apply for planning grants, with the mayor being the signatory for the city or county executive being the signatory for the county.

State/Local Implementation Grants: As described above, these grants are designed to be administered by a partnership of state juvenile justice departments and local juvenile justice agencies. Either of the state juvenile justice department or local juvenile justice agency partners is eligible to apply for a grant under this Notice. Each state is limited to submitting only one application, and this application is limited to having juvenile offenders from only one county in the state as its focus.

Intermediary Reentry Grant: An organization that has experience in conducting multi-site demonstrations in several localities may apply for this grant.

Note for all three categories of grants: DOL/ETA's acceptance of a proposal and award of Federal funds to sponsor any program do not provide a waiver of any grant requirements and/or procedures. OMB Circulars require that an entity's procurement procedures must ensure that all procurement transactions are conducted, as much as practical, to provide open and free competition. If a proposal identifies a specific entity to provide services, the DOL/ETA's award does not provide the justification or basis to sole source the procurement, i.e., avoid competition, unless the activity is regarded as the primary work of an official partner to the application.

B. Cost Sharing or Matching

Planning Grants: Planning grants must provide one-to-one leveraged resources from a local or national foundation, local or state government, other federal funds, or other source.

State/Local Implementation Grants and Intermediary Reentry Grant: There are no cost-sharing or matching requirements for state/local implementation grants or the intermediary reentry grant, but the development of leveraged resources is strongly encouraged in these grants and will be one of the factors considered in the review of proposals.

C. Other Eligibility Requirements

Participant Eligibility. Youth ages 14 and above who have been involved in the juvenile justice system within the past year, but never involved in the adult criminal justice system, may be served by the state/local implementation grants and intermediary reentry grant. The first priority of service for these grants is youth currently in or recently released from juvenile correctional facilities. If grant funds are still available after all such youth from the local area are served, the second priority for service is youth currently in or recently released from local juvenile detention centers. If grant funds are still available after all such youth from the local area are served, the third priority is youth who have been placed on probation through the local juvenile justice system. A minimum of 80 percent of youth enrolled must be those currently in or released within the last 30 days from either juvenile correctional facilities or juvenile detention centers.

IV. Application and Submission Information

A. Address to Request Application Package

This SGA contains all of the information and links to forms needed to apply for grant funding.

B. Content and Form of Application Submission

The proposal will consist of two separate and distinct parts—a cost proposal and a technical proposal. Applications that fail to adhere to the instructions in this section will be considered non-responsive and will not be considered.

Part I. The Cost Proposal. The Cost Proposal must include the following three items:

• The Standard Form (SF) 424, “Application for Federal Assistance” (available at http://www.whitehouse.gov/omb/grants/sf424.pdf ), http://www07.grants.gov/agencies/forms_repository_information.jsp and http://www.doleta.gov/grants/find_grants.cfm). The SF 424 must clearly identify the applicant and be signed by an individual with authority to enter into a grant agreement. Upon confirmation of an award, the individual signing the SF 424 on behalf of the applicant shall be considered the representative of the applicant. Indicate on Line 12 of SF 424 the category for which you are applying under this Notice.

• All applicants for Federal grant and funding opportunities are required to have a Dun and Bradstreet (DUNS) number. See Office of Management and Budget (OMB) Notice of Final Policy Issuance, 68 FR 38402 (June 27, 2003). Applicants must supply their DUNS number on the SF 424. The DUNS number is a nine-digit identification number that uniquely identifies business entities. Obtaining a DUNS number is easy and there is no charge. To obtain a DUNS number, access this Web site: http://www.dunandbradstreet.com or call 1-866-705-5711.

• The SF 424A Budget Information Form (available at http://www.whitehouse.gov/omb/grants/sf424a.pdf), http://www07.grants.gov/agencies/forms_repository_information.jsp and http://www.doleta.gov/grants/find_grants.cfm. In preparing the Budget Information Form, the applicant must provide a detailed backup budget for both the planning and operations aspects of the project, with a narrative explanation in support of the request. The budget narrative should break down the budget and leveraged resources by project activity, should discuss cost-per-participant, and should discuss precisely how the administrative costs support the project goals. Administrative costs do not need to be identified separately from program costs on the SF 424A Budget Information Form. Please note that applicants who fail to provide a SF 424, SF 424A and/or a budget narrative will be removed from consideration prior to the technical review process. If the proposal calls for integrating WIA or other Federal funds or includes other leveraged resources, these funds should not be listed on the SF 424 or SF 424A Budget Information Form, but should be described in the budget narrative and in Part II of the proposal. The amount of Federal funding requested for the entire period of performance should be shown on the SF 424 and SF 424A Budget Information Form. Applicants are also encouraged, but not required, to submit OMB Survey N. 1890-0014: Survey on Ensuring Equal Opportunity for Applicants, which can be found at http://www07.grants.gov/agencies/forms_repository_information.jsp and http://www.doleta.gov/grants/find_grants.cfm.

Part II. The Technical Proposal. The Technical Proposal will demonstrate the applicant's capability to plan and implement a project in accordance with the provisions of this solicitation. The guidelines for the content of the Technical Proposal are provided in Part V Section A of this SGA. The Technical Proposal for planning grants is limited to ten (10) double-spaced single-sided pages with 12 point text font and one-inch margins. The Technical Proposal for state/local implementation grants and the intermediary reentry grant is limited to twenty (20) double-spaced single-sided pages with 12 point text font and one-inch margins. Any pages submitted in excess of these page limits will not be reviewed. In addition, applications for planning grants must include a memorandum of understanding signed by the State juvenile correctional agency, the State adult correctional agency, and the local juvenile justice agency committing that these agencies will work together in carrying out the grant. Applications for State/local implementation grants must include a memorandum of understanding signed by the State juvenile correctional agency and the local juvenile justice agency committing that these agencies will work together in carrying out the grant. Applications for intermediary reentry grants do not need to include such agreements because the cities to be served by this grant and the local sub-grantees may be selected competitively after grant award. The applications for all three categories must also include a 2-page Executive Summary. These additional materials do not count against the 20-page limit for the Technical Proposal.

Applicants submitting proposals in hard-copy must submit an original signed application (including the SF 424) and one (1) “copy-ready” version free of bindings, staples or protruding tabs to ease in the reproduction of the proposal by DOL.

C. Submission Date, Times, and Addresses

The closing date for receipt of applications under this announcement is December 18, 2008. Applications must be received at the address below no later than 5 p.m. (Eastern Time). Applications submitted electronically through Grants.gov must be successfully submitted at http://www.grants.gov no later than 5 p.m. (Eastern Time) on December 29, 2008, and then subsequently validated by Grants.gov. The submission and validation process is described in more detail below. The process can be complicated and time-consuming. Applicants are strongly advised to initiate the process as soon as possible and to plan for time to resolve technical problems if necessary.

Applications sent by e-mail, telegram, or facsimile (fax) will not be accepted.

Applications that do not meet the conditions set forth in this notice will not be honored. No exceptions to the mailing and delivery requirements set forth in this notice will be granted.

Mail/overnight mail/hand delivery—Mailed applications must be addressed to the U.S. Department of Labor, Employment and Training Administration, Division of Federal Assistance, Attention: Chari Magruder, Reference SGA/DFA PY 08-09, 200 Constitution Avenue, NW., Room N-4716, Washington, DC 20210. Applicants are advised that mail delivery in the Washington area may be delayed due to mail decontamination procedures. Hand-delivered proposals will be received at the above address. All overnight mail will be considered to be hand-delivered and must be received at the designated place by the specified closing date and time.

Electronic submission—Applicants may apply online through Grants.gov (http://www.grants.gov). It is strongly recommended that before the applicant begins to write the proposal, applicants should immediately initiate and complete the “Get Registered” registration steps at http://www.grants.gov/applicants/get_registered.jsp. These steps may take multiple days or weeks to complete, and this time should be factored into plans for electronic submission in order to avoid unexpected delays that could result in the rejection of an application. It is highly recommended that online submissions be completed at least two (2) working days prior to the date specified for the receipt of applications to ensure that the applicant still has the option to submit by overnight delivery service in the event of any electronic submission problems. It is also highly recommended that applicants use the “Organization Registration Checklist” at http://www.grants.gov/assets/Organization_Steps_Complete_Registration.pdf to ensure the registration process is complete.

Within two business days of application submission, Grants.gov will send the applicant two e-mail messages to provide the status of application progress through the system. The first e-mail, almost immediate, will confirm receipt of the application by Grants.gov. The second e-mail will indicate the application has either been successfully validated or has been rejected due to errors. Only applications that have been successfully submitted and successfully validated will be considered. It is the sole responsibility of the applicant to ensure a timely submission, therefore sufficient time should be allotted for submission (two business days), and if applicable, subsequent time to address errors and receive validation upon resubmission (an additional two business days for each ensuing submission). It is important to note that if sufficient time is not allotted and a rejection notice is received after the due date and time, the application will not be considered.

The components of the application must be saved as either .doc, .xls or .pdf files. Documents received in a format other than .doc, .xls or .pdf will not be read.

The Grants.gov helpdesk is available from 7 a.m. (Eastern Time) until 9 p.m. (Eastern Time). Applicants should factor the unavailability of the Grants.gov helpdesk after 9 p.m. (Eastern Time) into plans for submitting an application. Applicants are strongly advised to utilize the plethora of tools and documents, including FAQs that are available on the “Applicant Resources” page at http://www.grants.gov/applicants/app_help_reso.jsp#faqs. To receive updated information about critical issues, new tips for users and other time sensitive updates as information is available, applicants may subscribe to “Grants.gov Updates” at http://www.grants.gov/applicants/email_subscription_signup.jsp.

If applicants encounter a problem with Grants.gov and do not find an answer in any of the other resources, call 1-800-518-4726 to speak to a Customer Support Representative or e-mail support@grants.gov.

Late Applications: For applications submitted on Grants.gov, only applications that have been successfully submitted no later 5 p.m. (Eastern Time) on the closing date and successfully validated will be considered. For applicants not submitting on Grants.gov, any application received after the exact date and time specified for receipt at the office designated in this notice will not be considered, unless it is received before awards are made, was properly addressed, and: (a) Was sent by U.S. Postal Service registered or certified mail not later than the fifth calendar day before the date specified for receipt of applications (e.g., an application required to be received by the 20th of the month must be post marked by the 15th of that month) or (b) Was sent by professional overnight delivery service to the addressee not later than one working day prior to the date specified for receipt of applications. “Post marked” means a printed, stamped or otherwise placed impression (exclusive of a postage meter machine impression) that is readily identifiable, without further action, as having been supplied or affixed on the date of mailing by an employee of the U.S. Postal Service. Therefore, applicants should request the postal clerk to place a legible hand cancellation “bull's eye” postmark on both the receipt and the package. Failure to adhere to the above instructions will be a basis for a determination of nonresponsiveness. Evidence of timely submission by a professional overnight delivery service must be demonstrated by equally reliable evidence created by the delivery service provider indicating the time and place of receipt.

D. Intergovernmental Review

This funding opportunity is not subject to Executive Order (EO) 12372, “Intergovernmental Review of Federal Programs.”

E. Funding Restrictions

All proposal costs must be necessary and reasonable in accordance with Federal guidelines. Determinations of allowable costs will be made in accordance with the applicable Federal cost principles. Disallowed costs are those charges to a grant that the grantor agency or its representative determines not to be allowed in accordance with the applicable Federal Cost Principles or other conditions contained in the grant. Applicants will not be entitled to reimbursement of pre-award costs. Funds provided under these grants shall only be used for activities that are in addition to those that would otherwise be available in the local area in the absence of such funds. Paying for food is only allowable in circumstances in which it is integral to a training activity. Grant funds may be used to pay wages to participants for summer and after-school work experience and internships as long as participants are assigned real work for these wages, but grant funds cannot be used for paying stipends to participants. Grantees must submit an implementation plan and detailed budget for project officer review and approval prior to starting operations. If grantees are starting some components sooner than others, they can submit separate plans for the components as they are ready to start them.

Indirect Costs. As specified in OMB Circulars on Cost Principles, indirect costs are those that have been incurred for common or joint objectives and cannot be readily identified with a particular cost objective. In order to utilize grant funds for indirect costs incurred, the applicant must obtain an Indirect Cost Rate Agreement with its Federal Cognizant Agency either before or shortly after the grant award. The Federal Cognizant Agency is generally determined based on the preponderance of Federal dollars received by the recipient.

Administrative Costs. An entity that receives a grant to carry out a project or program may not use more than 10 percent of the amount of the grant to pay administrative costs associated with the program or project. Administrative costs could be both direct and indirect costs and are defined at 20 CFR 667.220. Administrative costs do not need to be identified separately from program costs on the SF 424A Budget Information Form. They should be discussed in the budget narrative and tracked through the grantee's accounting system. To claim any administrative costs that are also indirect costs, the applicant must obtain an Indirect Cost Rate Agreement from its Federal Cognizant Agency as specified above.

F. Legal Rules Pertaining to Inherently Religious Activities by Organizations That Receive Federal Financial Assistance

Direct Federal grants, sub-award funds, or contracts under this program shall not be used to support inherently religious activities such as religious instruction, worship, or proselytization. Therefore, organizations must take steps to separate, in time or location, their inherently religious activities from the services funded under this program. Neutral, secular criteria that neither favor nor disfavor religion must be employed in the selection of grant and sub-grant recipients. In addition, under the Workforce Investment Act of 1998 and DOL regulations implementing the Workforce Investment Act, a recipient may not use direct Federal assistance to train a participant in religious activities, or employ participants to construct, operate, or maintain any part of a facility that is used or to be used for religious instruction or worship. See 29 CFR 37.6(f). Under WIA, “no individual shall be excluded from participation in, denied the benefits of, subjected to discrimination under, or denied employment in the administration of or in connection with, any such program or activity because of race, color, religion, sex (except as otherwise permitted under Title IX of the Education Amendments of 1972 and the Religious Freedom Restoration Act of 1993), national origin, age, disability, or political affiliation or belief.” Regulations pertaining to the Equal Treatment for Faith-Based Organizations, which includes the prohibition against Federal funding of inherently religious activities, can be found at 29 CFR Part 2, Subpart D. Provision relating to the use of indirect support (such as vouchers) is at 29 CFR 2.33(c) and 20 CFR 667.266.

A faith-based organization receiving federal funds retains its independence from Federal, State, and local governments, and may continue to carry out its mission, including the definition, practice, and expression of its religious beliefs. For example, a faith-based organization may use space in its facilities to provide secular programs or services funded with Federal funds without removing religious art, icons, scriptures, or other religious symbols. In addition, a faith-based organization that receives Federal funds retains its authority over its internal governance, and it may retain religious terms in its organization's name, select its board members on a religious basis, and include religious references in its organization's mission statements and other governing documents in accordance with all program requirements, statutes, and other applicable requirements governing the conduct of DOL funded activities.

The Department notes that the Religious Freedom Restoration Act (RFRA), 42 U.S.C. sec. 2000bb, applies to all Federal law and its implementation. If your organization is a faith-based organization that makes hiring decisions on the basis of religious belief, it may be entitled to receive Federal financial assistance under Title I of the Workforce Investment Act and maintain that hiring practice even though Section 188 of the Workforce Investment Act contains a general ban on religious discrimination in employment. If you are awarded a grant, you will be provided with information on how to request such an exemption.

V. Application Review Information

A. Evaluation Criteria

This section identifies and describes the criteria that will be used to evaluate proposals submitted for planning grants and implementation grants. Note that applications for planning grants do not need to include a Project Design section in their proposals, as their project design will be developed through the planning grants. Also note that that the allocation of points to need varies between the state/local and intermediary proposals because the intermediary applicants will not yet have identified the cities in which they will be operated.

Criterion | Points for planning grant applications | Points for state/local implementation grant applications | Points for intermediary reentry applications
1. Local Need | 40 | 20 | 10
2. Project design | N/A | 35 | 30
3. Collaboration | 40 | 35 | 20
4. Organizational capacity | 20 | 10 | 40
Total Possible Points | 100 | 100 | 100

The rated components listed above make up the Technical Proposal (along with the additional requirements listed in section IV.B).

1. Local Need

Planning Grants and State/Local Implementation Grants:

The points for local need for both planning grants and State/local implementation grants will be assigned based on a combination of the number of delinquency cases in the county to be served by your proposed project and the justification that you make in your application for the need for the project. Half of the points under this criterion will be assigned based on the number of youth in delinquency cases as determined by the most recent data available provided voluntarily by juvenile courts across the country to the National Juvenile Court Data Archive (NJCDA), a project maintained by the National Center for Juvenile Justice (NCJJ) with funds provided by the Office of Juvenile Justice and Delinquency Prevention. These Juvenile Court statistics include State and county-level caseload data showing the annual delinquency, status offense, and dependency cases handled by juvenile courts. These county-level statistics are available on the OJJDP Web site under Easy Access to State and County Juvenile Court Case Counts at http://ojjdp.ncjrs.org/ojstatbb/ezaco/asp/TableDisplay.asp. We will be using the combined number of petitioned and non-petitioned delinquency cases.

If you are from Kentucky, Louisiana, or Mississippi, please provide the number of combined petitioned and non-petitioned delinquency cases in the county that you will be serving for the latest year available as the national base does not include these statistics for these three States. If you are applying from any other State, you do not need to provide in your application the statistics for the area that you will be serving as we can access that information from the national data base as long as you indicate in the Needs Section of your application the county that you will be serving. If you are from Connecticut, indicate the venue district that you will be serving.

The other half of the points under this criterion will be based on the justification that you provide in your application for the need for this project in the area that you will be serving. Make your best case for why your local area needs this grant. Present the number of youth from the county placed in a juvenile correctional facility this past year; the number of youth placed in local detention centers; and the number who returned home from juvenile correctional facilities. Provide the source of this data. Discuss the extent of youth gangs in the city or county. Discuss why the problems of juvenile crime and youth gangs exist to the extent that they do in the county, what resources are currently available for serving returning juvenile offenders; and what gaps currently exist in these services. Applicants for planning grants also should discuss the extent of the problem of young adult crime in the city or county to be served, as planning grants will be developing blueprints for serving young adult as well as juvenile offenders.

Intermediary Reentry Grant:

• Discuss what factors indicating local need you will include in your solicitation for selecting cities competitively after award, why you believe that these factors are a good indicator of local need for the project, whether data is available on these factors, and what weight you will place on need factors.

• Discuss why the problems of juvenile crime and gangs exist to the extent that they do in the country as a whole; what resources typically are currently available for serving returning juvenile offenders; and what gaps currently exist in these services.

Planning Grant and State/Local Implementation proposals will be evaluated under this criterion as follows:

• Half of the points under this criterion will be based on the number of delinquency cases in the county to be served by the project reported in the Easy Access to State and County Juvenile Court Case Counts data base. A scale will be used to rank the number of delinquency cases in a county as high, medium, or low, with the most points being provided to counties with high numbers of delinquency cases.

• The other half of the points under this criterion will be based on the case you make in your proposal for the local need for your project. Based on evidence that you provide regarding the number of youth from the county placed in a juvenile correctional facility this past year; the number of youth placed in local detention centers; the number who returned home from juvenile correctional facilities; and current gaps in services to juvenile offenders, the review panel will rank the seriousness of the problems of juvenile crime and youth gangs in your county as severe, moderate, or low. Local areas with severe juvenile crime and youth gangs will receive the most points. Planning grant applications will also be ranked based on the evidence provided regarding the seriousness of their adult crime problem.

Intermediary Grant proposals will be evaluated under this criterion as follows:

• The review panel will evaluate how you will include local need as part of your competitive selection of cities. The review panel will consider how well you have thought through what factors of local need should be included in your solicitation for the cities that will be part of your project; whether data is available on the factors that you propose; and the extent to which these factors accurately reflect local need. Panelists will rate your response on a scale of fair, good, and excellent, with excellent receiving the most points (5 points).

• The review panel will evaluate your response regarding why juvenile crime and youth gangs exist to the extent that they do in the country as a whole; what resources typically are currently available for serving returning juvenile offenders; and what gaps currently exist in these services. The panel will consider how well you have thought through these issues and how insightful your analysis is of existing gaps in services. Panelists will rate your response on a scale of fair, good, and excellent, with excellent receiving the most points (5 points).

2. Project Design (Applications for Planning Grants Do Not Complete This Section)

State/Local Implementation Grants and Intermediary Reentry Grants: Discuss how you will implement each of the required project components in Part I of the grant announcement:

• Community Reentry Team: Discuss which agencies will serve on this team. Discuss the roles and responsibilities of the Community Reentry Team.

• Employment Strategies: Discuss how you plan to place older juvenile offenders in jobs. Discuss how you will link with the local Workforce Investment Board, One-Stop Centers, and corporations.

• Case Management: Discuss how you will carry out this component, including the number of case managers or advocates you expect to hire, how these case managers or advocates will interact with guidance counselors and staff, the expected number of students to be served each year in this component, and the anticipated case load size.

• Educational Strategies: Discuss the educational strategies that you will implement with grant funds. Provide details regarding how you will implement each strategy, including the number of full-time staff positions that will be dedicated to each new strategy and the expected number of students to be served each year by each strategy. Describe the level of staff development that will be provided in implementing these educational strategies.

• Mentoring: Describe how the mentoring component will be carried out, including how mentors will be recruited, screened, and trained, the anticipated number of youth who will receive mentors, and the number of full-time staff to be hired for this component. Also, discuss the extent to which you will use one-on-one mentoring, group mentoring, service-based mentoring, and work-based mentoring.

• Restorative Justice: Discuss how you will implement community service projects for juvenile offenders both ages 18 and above and ages 17 and below. Discuss possible links with local conservation and service corps programs, volunteer organizations, and state and local parks.

• Community-Wide Violence Reduction Efforts: Discuss plans for churches and social service organizations in neighborhoods served by the grant to join together to prevent youth violence and serve juvenile offenders.

State/Local Implementation Grant proposals and Intermediary Reentry Grant proposals will be evaluated under this criterion for each of the six required components plus the Community Reentry Team as follows:

For State/Local Implementation Grant proposals, up to 5 points will be awarded for each of the six required components plus the Community Reentry Team. For Intermediary Reentry Grant proposals, up to 5 points each will be awarded for the employment and education components and up to 4 points each will be awarded for the other four components and the Community Reentry Team. The points for each of the required components and the Community Reentry Team will be rated by the panel based on:

• The extent to which the applicant demonstrates that it has thought through how it will implement the component;

• The practicality and likelihood of success of the design that the applicant is proposing for the component; and

• The potential for the component as designed by the applicant to have large impact on the young offender population in the communities to be served.

3. Collaboration

This section should include for all three categories a discussion of how the project will be carried out in a shared youth vision framework in which multiple state and local agencies work collaboratively across funding streams to best serve young people in their jurisdictions.

Planning Grants: This section should include:

• A discussion of each of the key partners that will be involved in the project, including the state and local juvenile justice agencies, state and local agencies responsible for returning adult offenders, the school district, the workforce investment system, local foundations, and corporations.

• A discussion of the community's potential commitment to the project, including a description of organizations that serve neighborhoods with large numbers of returning young offenders, including churches with youth programs, Settlement Houses, Boys and Girls Clubs, Girls Inc, YMCAs, and YWCAs, and how these organizations could help serve as a community-wide net for at-risk youth.

• A description of the one-to-one leveraged resources and the extent to which the leveraged resources represent funding or staffing that would not otherwise be dedicated to improving services for juvenile and young adult offenders.

State/Local Implementation Grants: This section should include:

• A discussion of each of the key partners that will be involved in the project, including the state and local juvenile justice agencies, the school district, the workforce investment system, local foundations, and corporations.

• A discussion of the community's potential commitment to the project, including a description of organizations that serve neighborhoods with large numbers of returning young offenders, including churches with youth programs, Settlement Houses, Boys and Girls Clubs, Girls Inc, YMCAs, and YWCAs, and how these organizations could help serve as a community-wide net for at-risk youth.

• A description of the leveraged resources that will provide and the extent to which these resources represent funding or staffing that would not otherwise be dedicated to improving services for juvenile and young adult offenders.

• A description of the requirements that will go into the grant announcement for selecting faith-based and community organizations as sub-grantees/contractors. The Department strongly encourages the competitive selection of sub-grantees and contractors either before or after grant award.

Intermediary Reentry Grants: Because cities in which the project will be operated will not be selected until after grant award, applicants will not be able to list specific local partners in this section. Rather, discuss the types of local organizations that you will seek out as partners. This section should include:

• A discussion of how you plan to involve key local partners, including the state and local juvenile justice agencies, the school district, the workforce investment system, local foundations, and corporations.

• A description of the types of local organizations that the applicant will seek to include in this project, including churches with youth programs, Settlement Houses, Boys and Girls Clubs, Girls Inc, YMCAs, and YWCAs, and how these organizations could help serve as a community-wide net for at-risk youth.

• A description of the types of leveraged funds that will be sought to carry out these grants.

• A description of the requirements for local state and local collaboration that will go into the grant announcement for selecting cities and local subgrantees. The Department strongly encourages the competitive selection of sub-grantees and contractors either before or after grant award.

Planning Grant proposals will be evaluated under this criterion based on:

• The extent of planned partnerships between the state and local juvenile justice agencies, the school district, the workforce investment system, state and local agencies responsible for adult offenders, local foundations, and corporations (15 points).

• The extent of the potential commitment to the project of faith-based and community organizations that are operating in neighborhoods with large numbers of returning young offenders likely to be served by the grant (15 points).

• The extent to which the one-to-one leveraged resources represent funding or staffing that would not otherwise be dedicated to improving services for juvenile and young adult offenders (10 points).

State/Local Implementation Grant proposals will be evaluated under this criterion based on:

• The extent of planned partnerships between the state and local juvenile justice agencies, the school district, the workforce investment system, state and local agencies responsible for adult offenders, local foundations, and corporations (9 points).

• The extent of the potential commitment to the project of faith-based and community organizations that are operating in neighborhoods with large numbers of returning young offenders likely to be served by the grant (9 points).

• The amount of leveraged resources and the extent to which these leveraged resources represent funding or staffing that would not otherwise be dedicated to improving services for juvenile offenders (9 points).

• The extent to which the requirements that will go into the solicitation for selecting faith-based and community sub-grantees and contractors are practical and able to differentiate between proposals of different levels of merit (8 points).

Intermediary Reentry Grant proposals will be evaluated under this criterion based on:

• The practicality and likelihood of success of the plan for involving key local partners in the project, including state and local juvenile justice agencies, the school district, the workforce investment system, state and local agencies responsible for adult offenders, local foundations, and corporations (5 points).

• The likelihood of success and the potential of having a large impact on the juvenile offender population of the plan for involving faith-based and community organizations in this project (5 points).

• The likelihood of success of the plan for leveraging additional funds for the project, the amount of expected leveraged resources, and the extent to which these leveraged resources will represent funding or staffing that would not otherwise be dedicated to improving services for juvenile offenders (5 points).

• The extent to which the requirements that will go into the solicitation for selecting faith-based and community sub-grantees and contractors are practical and able to differentiate between proposals of different levels of merit (5 points).

4. Organizational Capacity

• Planning Grants: Discuss the capacity of the organization to lead this planning process. Discuss experience of the organization in carrying out previous planning efforts. Discuss the capacity of the organization to have the lead in following through to implement the blueprints for reform developed through the 12-month planning period funded by these grants. Discuss the experience of key staff related to the juvenile and criminal justice systems. Discuss the organization's previous success in operating projects in a shared youth vision approach involving collaboration among agencies and the use of leveraged resources.

• State/Local Implementation Grants: Discuss the capacity and the commitment to this project of the State juvenile justice department. Discuss the capacity and commitment of the local juvenile justice agency. Discuss each organization's previous success in providing services in a shared youth vision approach involving collaboration among agencies and the use of leveraged resources. Discuss the experience of key staff related to the juvenile justice system.

• Intermediary Reentry Grant: This section should include discussions of the organization's direct experience in conducting multi-site demonstrations; the proposed staff's direct experience in conducting multi-site demonstrations; the organization's and the key staff's direct experience relating to each of the seven required program components discussed above—community reentry teams, case management, employment, education, mentoring, balanced and restorative justice, and community violence reduction efforts; and the organization's previous success in operating demonstrations in a shared youth vision approach involving collaboration among agencies and the use of leveraged resources.

Planning Grant proposals will be evaluated under this criterion based on:

• The experience of the organization in carrying out previous planning efforts (7 points).

• The experience of key staff related to the juvenile and criminal justice systems (7 points).

• The organization's previous success in operating projects in a shared youth vision approach involving collaboration among agencies and the use of leveraged resources (6 points).

State/Local Implementation Grant proposals will be evaluated under this criterion based on:

• The experience of the State juvenile justice department and key staff in collaborating with other agencies (5 points).

• The experience of the local juvenile justice agency and key staff in collaborating with other agencies (5 points).

Intermediary Reentry Grant proposals will be evaluated under this criterion based on:

• The organization's direct experience in conducting multi-site demonstrations (9 points).

• The proposed staff's direct experience in conducting multi-site demonstrations country (9 points).

• The organization's and the key staff's direct experience relating to each of the seven required program components discussed above—community reentry teams, case management, employment, education, mentoring, balanced and restorative justice, and community violence reduction efforts (9 points).

• The organization's previous success in operating demonstrations in a shared youth vision approach involving collaboration among agencies and the use of leveraged resources (8 points).

B. Review and Selection Process

Proposals that are timely and responsive to the requirements of this SGA will be rated against the criteria listed above by an independent panel that may be comprised of representatives from DOL and other reviewers. Proposals will be grouped by the category for which they apply, and the proposals within each category will be rated separately. The ranked scores will serve as the primary basis for selection of applications for funding, in conjunction with other factors such as geographic balance; the availability of funds; and which proposals are most advantageous to the Government. Any applications that receive a score of 80 and above will be considered for award. The panel results are advisory in nature and not binding on the Grant Officer, and the Grant Officer may consider any information that comes to his/her attention. If no fundable proposals are received for a given category or if fewer fundable proposals are received for a category than we intended to fund, additional awards may be made in the other categories. The Government may elect to award the grant(s) with or without discussions with the applicants. Should a grant be awarded without discussions, the award will be based on the applicant's signature on the SF 424, which constitutes a binding offer by the applicant (including electronic signature via E-Authentication on http://www.grants.gov).

VI. Award Administration Information

A. Award Notices

All award notifications will be posted on the ETA homepage (http://www.doleta.gov). The notice of award signed by the Grants Officer will serve as the authorizing document. Applicants not selected for award will be notified as soon as possible.

B. Administrative and National Policy Requirements

1. Administrative Program Requirements

All grantees, including faith-based organizations, will be subject to all applicable Federal laws, regulations, and the applicable OMB Circulars. The grant(s) awarded under this SGA will be subject to the following administrative standards and provisions:

a. Non-Profit Organizations—OMB Circulars A-122 (Cost Principles) and 29 CFR Part 95 (Administrative Requirements).

b. Educational Institutions—OMB Circulars A-21 (Cost Principles) and 29 CFR Part 95 (Administrative Requirements).

c. State and Local Governments—OMB Circulars A-87 (Cost Principles) and 29 CFR Part 97 (Administrative Requirements).

d. Profit Making Commercial Firms—Federal Acquisition Regulation (FAR)—48 CFR Part 31 (Cost Principles), and 29 CFR Part 95 (Administrative Requirements).

e. All entities must comply with 29 CFR Parts 93 and 98, and, where applicable, 29 CFR Parts 96 and 99.

f. 29 CFR Part 2, subpart D—Equal Treatment in Department of Labor Programs for Religious Organizations, Protection of Religious Liberty of Department of Labor Social Service Providers and Beneficiaries.

g. 29 CFR Part 31—Nondiscrimination in Federally Assisted Programs of the Department of Labor—Effectuation of Title VI of the Civil Rights Act of 1964.

h. 29 CFR Part 32—Nondiscrimination on the Basis of Handicap in Programs and Activities Receiving or Benefiting from Federal Financial Assistance.

i. 29 CFR Part 33—Enforcement of Nondiscrimination on the Basis of Handicap in Programs or Activities Conducted by the Department of Labor.

j. 29 CFR Part 35—Nondiscrimination on the Basis of Age in Programs or Activities Receiving Federal Financial Assistance from the Department of Labor.

k. 29 CFR Part 36—Nondiscrimination on the Basis of Sex in Education Programs or Activities Receiving Federal Financial Assistance.

The following administrative standards and provisions may be applicable:

a. Workforce Investment Act—20 Code of Federal Regulations (CFR) Part 667 (General Fiscal and Administrative Rules).

b. 29 CFR Part 30—Equal Employment Opportunity in Apprenticeship and Training; and

c. 29 CFR Part 37—Implementation of the Nondiscrimination and Equal Opportunity Provisions of the Workforce Investment Act of 1998.

In accordance with Section 18 of the Lobbying Disclosure Act of 1995 (Pub. L. 104-65) (2 U.S.C. 1611) non-profit entities incorporated under Internal Revenue Service Code section 501(c)(4) that engage in lobbying activities are not eligible to receive Federal funds and grants.

Note: Except as specifically provided in this Notice, DOL/ETA's acceptance of a proposal and an award of Federal funds to sponsor any program(s) does not provide a waiver of any grant requirements and/or procedures. For example, OMB Circulars require that an entity's procurement procedures must ensure that all procurement transactions are conducted, as much as practical, to provide open and free competition. If a proposal identifies a specific entity to provide services, the DOL/ETA's award does not provide the justification or basis to sole source the procurement, i.e., avoid competition, unless the activity is regarded as the primary work of an official partner to the application.

2. Special Program Requirements

Evaluation. DOL will require that State/Local Implementation Grantees and the Intermediary Reentry Grantee cooperate in an independent evaluation of their projects. This evaluation will make use of program MIS data, local administrative data on juvenile crime and recidivism, and program progress reports. DOL recognizes that there will be limitations on this cooperation due to state confidentiality requirements regarding data on individual juvenile offenders.

Intellectual Property Rights. The Federal Government reserves a paid-up, nonexclusive and irrevocable license to reproduce, publish or otherwise use, and to authorize others to use for federal purposes: (i) The copyright in all products developed under the grant, including a subgrant or contract under the grant or subgrant; and (ii) any rights of copyright to which the grantee, subgrantee or a contractor purchases ownership under an award (including but not limited to curricula, training models, technical assistance products, and any related materials). Such uses include, but are not limited to, the right to modify and distribute such products worldwide by any means, electronically or otherwise. Federal funds may not be used to pay any royalty or licensing fee associated with such copyrighted material, although they may be used to pay costs for obtaining a copy which is limited to the developer/seller costs of copying and shipping. If revenues are generated through selling products developed with grant funds, including intellectual property, these revenues are program income. Program income is added to the grant and must be expended for allowable grant activities.

C. Reporting and Accountability

The state/local implementation grants and the intermediary reentry grant will be subject to performance standards measuring their progress in meeting the goals of the grants. National goals will be set after grant award in the following areas:

• Reducing the recidivism rate of youth returning from out-of-home placements;

• Increasing the employment rate of returning juvenile offenders ages 18 and above;

• Increasing the rate which returning juvenile offenders ages 18 and above enter post-secondary education or training;

• Increasing the school retention rate of returning juvenile offenders under the age of 18;

• Increasing the rate which returning juvenile offenders under the age of 18 achieve a high school diploma.

The planning grants will not be subject to performance standards, but DOL/ETA staff will review the completed plans submitted by grantees and will provide comments and suggestions to the grantees regarding their plans. The plans submitted by these grantees will also be shared with other localities in the country.

Quarterly financial reports, quarterly progress reports, and MIS data will be submitted by the grantee electronically. Grantees must agree to meet DOL reporting requirements. The grantee is required to provide the reports and documents listed below:

Quarterly Financial Reports. A Quarterly Financial Status Report is required until such time as all funds have been expended or the grant period has expired, whichever is sooner. Quarterly reports are due 45 days after the end of each calendar year quarter. Grantees must use ETA's On-Line Electronic Reporting System; information and instructions will be provided to grantees.

Quarterly Progress Reports. The grantee must submit a quarterly progress report based on a DOL template to its designated Federal Project Officer within 45 days after the end of each quarter. This report should provide a detailed account of activities undertaken during that quarter. The quarterly progress report should be in narrative form and should include:

1. In-depth information on accomplishments, including project success stories, upcoming grant activities, and promising approaches and processes.

2. Progress toward meeting performance outcomes.

3. Challenges being faced by the grantee in implementing the project.

MIS Reports. Organizations will be required to submit updated MIS data within 45 days after the end of each quarter based on a DOL template that reports on enrollment, services provided, placements, outcomes, and follow-up status.

VII. Agency Contacts

For further information regarding this SGA, please contact B. Jai Johnson, Grants Management Specialist, Division of Federal Assistance, at (202) 693-3296 (please note this is not a toll-free number). Applicants should fax all technical questions to (202) 693-2705, or e-mail: johnson.bjai@dol.gov and must specifically address the fax to the attention of B. Jai Johnson and should include SGA/DFA PY 08-09, a contact name, fax and phone number, and e-mail address. This announcement is being made available on the ETA Web site at http://www.doleta.gov/grants/find_grants.cfm, http://www.grants.gov, and in the Federal Register.

VIII. Additional Resources and Other Information

A. Resources for the Applicant

DOL maintains a number of web-based resources that may be of assistance to applicants:

• Questions and responses submitted to the Grant Officer regarding the SGA will be posted on the Employment and Training Web site at http://www.doleta.gov. Questions will be received for one month after publication.

B. Other Information

OMB Information Collection No. 1225-0086.

Expires September 30, 2009.

According to the Paperwork Reduction Act of 1995, no persons are required to respond to a collection of information unless such collection displays a valid OMB control number. Public reporting burden for this collection of information is estimated to average 20 hours per response, including time for reviewing instructions, searching existing data sources, gathering and maintaining the data needed, and completing and reviewing the collection of information. Send comments regarding the burden estimated or any other aspect of this collection of information, including suggestions for reducing this burden, to the OMB Desk Officer for ETA, Office of Management and Budget, Room 10235, Washington, DC 20503. PLEASE DO NOT RETURN YOUR COMPLETED APPLICATION TO THE OMB. SEND IT TO THE SPONSORING AGENCY AS SPECIFIED IN THIS SOLICITATION.

This information is being collected for the purpose of awarding a grant. The information collected through this “Solicitation for Grant Applications” will be used by the Department of Labor to ensure that grants are awarded to the applicant best suited to perform the functions of the grant. Submission of this information is required in order for the applicant to be considered for award of this grant. Unless otherwise specifically noted in this announcement, information submitted in the respondent's application is not considered to be confidential.

Signed at Washington, DC, this 10th day of November 2008.
Chari A. Magruder,
Employment and Training Administration, Grant Officer.

[FR Doc. E8-27151 Filed 11-14-08; 8:45 am]

BILLING CODE 4510-FT-P